SECURITIES AND EXCHANGE COMMISSION

[File No. 500-1]

In the Matter of China Organic Agriculture, Inc. and Guilin Paper, Inc.; Order of Suspension of Trading

April 19, 2013.

It appears to the Securities and Exchange Commission that there is a lack of current and accurate information concerning the securities of Biopharm Asia, Inc., China Organic Agriculture, Inc., and Guilin Paper, Inc. because Biopharm Asia, Inc. and China Organic Agriculture, Inc. have not filed any periodic reports for any reporting period subsequent to September 30, 2010, and Guilin Paper, Inc. has not filed any periodic reports for any reporting period subsequent to September 30, 2007.

The Commission is of the opinion that the public interest and the protection of the investors require a suspension of trading in securities of the above-listed companies.

Therefore, it is ordered, pursuant to Section 12(k) of the Securities Exchange Act of 1934, that trading in the securities of the above-listed companies is suspended for the period from 9:30 a.m. EDT, April 19, 2013, through 11:59 p.m. EDT, on May 2, 2013.

By the Commission.
Jill M. Peterson,
Assistant Secretary.

[FR Doc. 2013-09635 Filed 4-19-13; 4:15 pm]

BILLING CODE 8011-01-P